DEPARTMENT OF TRANSPORTATION

Federal Transit Administration

FY 2021 Competitive Funding Opportunity: Passenger Ferry Grant Program

AGENCY: Federal Transit Administration (FTA), U.S. Department of Transportation (DOT).

ACTION: Notice of funding opportunity (NOFO).

SUMMARY: The Federal Transit Administration (FTA) announces the opportunity to apply for $38 million in competitive grants under the Fiscal Year (FY) 2021 Passenger Ferry Grant Program (Ferry Program). Of that amount, $4 million is available only for low or zero-emission ferries or ferries using electric battery or fuel cell components and the infrastructure to support such ferries. As required by Federal public transportation law, funds will be awarded competitively to designated recipients or eligible direct recipients of Urbanized Area Formula funds to support capital projects to improve existing passenger ferry service, establish new ferry service, and repair and modernize ferry boats, terminals, and related facilities and equipment. FTA may award additional funding made available to the program prior to the announcement of project selections.

DATES: Complete proposals must be submitted electronically through the GRANTS.GOV “APPLY” function by 11:59 p.m. Eastern time on October 5, 2021. Prospective applicants should initiate the process by promptly registering on the GRANTS.GOV website to ensure completion of the application process before the submission deadline. Instructions for applying can be found on FTA's website at https://www.transit.dot.gov/funding/grants/applying/applying-fta-funding and in the “FIND” module of GRANTS.GOV. The funding opportunity ID is FTA-2021-006-TPM-Ferry. Mail and fax submissions will not be accepted.

FOR FURTHER INFORMATION CONTACT: Vanessa Williams, FTA Office of Program Management, (202) 366-4818, or vanessa.williams@dot.gov.

SUPPLEMENTARY INFORMATION:

Table of Contents

A. Program Description

B. Federal Award Information

C. Eligibility Information

D. Application and Submission Information

E. Application Review Information

F. Federal Award Administration Information

G. Federal Awarding Agency Contact(s)

H. Other Information

A. Program Description

Federal public transportation law (49 U.S.C. 5307(h)) authorizes FTA to award grants for passenger ferries through a competitive process, as described in this notice. The Ferry Program provides funding to designated recipients and direct recipients under FTA's Urbanized Area Formula Program, as well as public entities engaged in providing public transportation passenger ferry service in urban areas that are eligible to be direct recipients. Projects funded under the program will improve the condition and quality of existing passenger ferry services, support the establishment of new passenger ferry services, and repair and modernize ferry boats, terminals, and related facilities and equipment. FTA recognizes that passenger ferries provide critical and cost-effective transportation links in urban areas throughout the United States but face a critical backlog of state of good repair and safety investments. The Ferry Program (Federal Assistance Listing: 20.507) supports FTA's strategic goals and objectives through the timely and efficient investment in public transportation. This program also supports the President's goals to mobilize American ingenuity to build a modern infrastructure and an equitable, clean energy future. In addition, this NOFO will advance the goals of the President's January 20, 2021, Executive Order 13990, “Protecting Public Health and the Environment and Restoring Science to Tackle the Climate Crisis.”

B. Federal Award Information

Federal public transportation law (49 U.S.C. 5336(h)(1)) apportions $30 million in FY 2021 funds for competitive grants under the Ferry Program. The Consolidated Appropriations Act, 2021 (Pub. L. 116-260), appropriated an additional $8 million for the Ferry Program, for a total of $38 million. Of that amount, $4 million is available only for low or zero-emission ferries or ferries using electric battery or fuel cell components and the infrastructure to support such ferries. FTA may award additional funding made available to the program prior to the announcement of project selections.

In FY 2020, FTA received 19 eligible proposals from 15 States and territories requesting $102 million in Federal funds. Twelve projects were funded at a total of $47.5 million, using a combination of funding from FY 2020 and funding remaining from prior year appropriations.

FTA will grant pre-award authority to incur costs for selected projects beginning on the date the FY 2021 project selections are announced on FTA's website. Funds are available for obligation for five years after the fiscal year in which the competitive awards are announced. Funds are available only for projects that have not already incurred costs prior to the announcement of project selections.

C. Eligibility Information

1. Eligible Applicants

Eligible applicants are: (1) Designated recipients as defined in FTA Circular “Urbanized Area Formula Program: Program Guidance and Application Instructions” (FTA.C.9030.1E) and (2) direct recipients of FTA's Urbanized Area Formula Grants, as well as public entities engaged in providing public transportation passenger ferry service in urban areas that are eligible to be direct recipients.

If an applicant does not currently have an active Urbanized Area Formula Program grant with FTA, the applicant is encouraged to contact the FTA Ferry Program manager for assistance with determining if it is eligible to receive funds under the Ferry Program. An eligible applicant that does not currently have an active grant with FTA will, upon selection, be required to work with an FTA regional office to establish its organization as an active grant recipient. This process may require additional documentation to support the organization's technical, financial, and legal capacity to receive and administer Federal funds under this program.

2. Cost Sharing or Matching

a. The maximum Federal share for projects selected under the Ferry Program is 80 percent of the net project cost, with the following exceptions.

b. The maximum Federal share is 85 percent of the net project cost of acquiring vehicles (including clean-fuel or alternative fuel vehicles) for purposes of complying with or maintaining compliance with the Clean Air Act (CAA) and/or the Americans with Disabilities Act (ADA) of 1990.

c. The maximum Federal share is 90 percent of the net project cost of acquiring, installing or constructing vehicle-related equipment or facilities (including clean fuel or alternative-fuel vehicle-related equipment or facilities) for purposes of complying with or maintaining compliance with the ADA or CAA. The award recipient must itemize the cost of specific, discrete, vehicle-related equipment associated with compliance with the ADA or CAA to be eligible for the maximum 90 percent Federal share for these costs.

Eligible sources of non-Federal matching funds include:

i. Cash from non-governmental sources other than revenues from providing public transportation services;

ii. Non-farebox revenues from the operation of public transportation service, such as the sale of advertising and concession revenues;

iii. Monies received under a service agreement with a State or local social service agency or private social service organization;

iv. Undistributed cash surpluses, replacement or depreciation cash funds, reserves available in cash, or new capital;

v. Amounts appropriated or otherwise made available to a department or agency of the Government (other than the U.S. Department of Transportation), that are eligible to be expended for public transportation;

vi. In-kind contributions integral to the project;

vii. Revenue bond proceeds for a capital project, with prior FTA approval; and

viii. Transportation Development Credits (TDC) (formerly referred to as Toll Revenue Credits).

If an applicant proposes a Federal share greater than 80 percent, the applicant must clearly explain why the project is eligible for the proposed Federal share.

3. Eligible Projects

Eligible projects are capital projects for the purchase, construction, replacement, or rehabilitation of ferries, terminals, related infrastructure, and related equipment (including fare equipment and communication devices). Projects are required to support a passenger ferry service that serves an urbanized area, and may include services that operate between an urbanized area and non-urbanized areas. Ferry systems that accommodate cars must also accommodate walk-on passengers to be eligible for funding.

Recipients are permitted to use up to 0.5 percent of their grant award to pay for not more than 80 percent of the cost for workforce development activities eligible under Federal public transportation law (49 U.S.C 5314(b)) and an additional 0.5 percent for costs associated with training at the National Transit Institute. Applicants must identify the proposed use of funds for these activities in the project proposal and identify them separately in the project budget.

D. Application and Submission Information

1. Address To Request Application

A complete proposal submission consists of two forms: The SF-424 Application for Federal Assistance can be downloaded from GRANTS.GOV and the supplemental form for the FY 2021 Passenger Ferry Grant Program can be downloaded from GRANTS.GOV or the FTA website at: https://www.transit.dot.gov/funding/grants/passenger-ferry-grant-program-section-5307.

2. Content and Form of Application Submission

a. Proposal Submission

Applications must be submitted electronically through GRANTS.GOV. General information for submitting applications along with specific instructions for the forms and attachments required for submission can be found at GRANTS.GOV. Mail and fax submissions will not be accepted. A complete proposal submission consists of two forms: (1) The SF-424 Application for Federal Assistance; and (2) the FY 2021 Passenger Ferry Grant Program supplemental form. The supplemental form and any supporting documents must be attached to the “Attachments” section of the SF-424. The application must include responses to all sections of the SF-424 Application for Federal Assistance and the supplemental form, unless designated as optional. The information on the supplemental form will be used to determine applicant and project eligibility for the program, and to evaluate the proposal against the selection criteria described in part E of this notice. Failure to submit the information as requested can delay review or disqualify the application.

FTA will accept only one supplemental form per SF-424 submission. FTA encourages States and other applicants to consider submitting a single supplemental form that includes multiple activities to be evaluated as a consolidated proposal. If a State or other applicant chooses to submit separate proposals for individual consideration by FTA, each proposal must be submitted using a separate SF-424 and supplemental form.

Applicants may attach additional supporting information to the SF-424 submission, including but not limited to letters of support, project budgets, fleet status reports, or excerpts from relevant planning documents. Supporting documentation should be described and referenced by file name in the appropriate response section of the supplemental form, or it may not be reviewed.

Information such as applicant name, Federal amount requested, local match amount, and description of areas served may be requested in varying degrees of detail on both the SF-424 and Supplemental Form. Applicants must fill in all fields unless otherwise stated on the forms. Applicants should not place N/A or “refer to attachment” in lieu of typing in responses in the field sections. If information is copied into the supplemental form from another source, applicants should verify that pasted text is fully captured on the supplemental form and has not been truncated by the character limits built into the form. Applicants should use both the “Check Package for Errors” and the “Validate Form” validation buttons on both forms to check all required fields on the forms, and ensure that the Federal and local amounts specified are consistent.

b. Application Content

The SF-424 Application for Federal Assistance and the supplemental form will prompt applicants for the required information:

a. Applicant name

b. Dun and Bradstreet (D&B) Data Universal Numbering System (DUNS) number

c. Key contact information (including contact name, address, email address, and phone)

d. Congressional district(s) where project will take place

e. Project information (including title, executive summary, and type)

f. A detailed description of the need for the project

g. A detailed description of how the project will support the Ferry Program objectives

h. Evidence that the project is consistent with local and regional planning objectives

i. Evidence that the applicant can provide the local cost share

j. A description of the technical, legal, and financial capacity of the applicant

k. A detailed project budget

l. An explanation of the scalability of the project

m. Details on the local matching funds

n. A detailed project timeline

3. Unique Entity Identifier and System for Award Management (SAM)

Each applicant is required to: (1) Be registered in SAM before submitting an application; (2) provide a valid unique entity identifier in its application; and (3) continue to maintain an active SAM registration with current information at all times during which the applicant has an active Federal award or an application or plan under consideration by FTA. FTA may not make an award until the applicant has complied with all applicable unique entity identifier and SAM requirements. If an applicant has not fully complied with the requirements by the time FTA is ready to make an award, FTA may determine that the applicant is not qualified to receive an award and use that determination as a basis for making a Federal award to another applicant. These requirements do not apply if the applicant: Has an exception approved by FTA or the U.S. Office of Management and Budget under 2 CFR 25.110(c) or (d). Non-Federal entities that have received a Federal award are required to report certain civil, criminal, or administrative proceedings to SAM (currently the Federal Awardee Performance and Integrity Information System (FAPIIS)) to ensure registration information is current and comply with Federal requirements. Applicants should reference 2 CFR 200.113, for more information.

All applicants must provide a unique entity identifier provided by SAM. Registration in SAM may take as little as 3-5 business days, but since there could be unexpected steps or delays (for example, if there is a need to obtain an Employee Identification Number), FTA recommends allowing ample time, up to several weeks, for completion of all steps. For additional information on obtaining a unique entity identifier, please visit www.sam.gov.

4. Submission Dates and Times

Project proposals must be submitted electronically through GRANTS.GOV by 11:59 p.m. Eastern Time on October 5, 2021. GRANTS.GOV attaches a time stamp to each application at the time of submission. Mail and fax submissions will not be accepted.

FTA urges applicants to submit applications at least 72 hours prior to the due date to allow time to correct any problems that may have caused either GRANTS.GOV or FTA systems to reject the submission. Proposals submitted after the deadline will be considered only under extraordinary circumstances not under the applicant's control. Mail and fax submissions will not be accepted. Deadlines will not be extended due to scheduled website maintenance. GRANTS.GOV scheduled maintenance and outage times are announced on the GRANTS.GOV website.

Within 48 hours after submitting an electronic application, the applicant should receive an email message from GRANTS.GOV with confirmation of successful transmission to GRANTS.GOV. If a notice of failed validation or incomplete materials is received, the applicant must address the reason for the failed validation, as described in the email notice, and resubmit before the submission deadline. If making a resubmission for any reason, include all original attachments regardless of which attachments were updated and check the box on the supplemental form indicating this is a resubmission.

Applicants are encouraged to begin the process of registration on the GRANTS.GOV site well in advance of the submission deadline. Registration is a multi-step process, which may take several weeks to complete before an application can be submitted. Registered applicants may still be required to take steps to keep their registration up to date before submissions can be made successfully: (1) Registration in SAM is renewed annually; and (2) persons making submissions on behalf of the Authorized Organization Representative (AOR) must be authorized in GRANTS.GOV by the AOR to make submissions.

5. Funding Restrictions

Funds made available under the Ferry Program may not be used to fund operating expenses, planning, or preventive maintenance. Any project that does not include the purchase, construction, replacement, or rehabilitation of ferries, terminals, related infrastructure, or related equipment is not eligible. Funds made available under this NOFO cannot be used to reimburse applicants for otherwise eligible expenses incurred prior to the posting of project selections on FTA's website and the corresponding issuance of preaward authority. Allowable direct and indirect expenses must be consistent with the Governmentwide Uniform Administrative Requirements and Cost Principles (2 CFR part 200) and FTA Circular 5010.1E.

6. Other Submission Requirements

Applicants are encouraged to identify scaled funding options in case insufficient funding is available to fund a project at the full requested amount. If an applicant advises that a project is scalable, the applicant must provide an appropriate minimum funding amount that will fund an eligible project that achieves the objectives of the program and meets all relevant program requirements. The applicant must provide a clear explanation of how the project budget would be affected by a reduced award. FTA may award a lesser amount whether or not a scalable option is provided.

E. Application Review Information

1. Criteria

Projects will be evaluated primarily on the responses provided in the supplemental form. Additional information may be provided to support the responses; however, any additional documentation must be directly referenced on the supplemental form, including the file name where the additional information can be found. FTA will evaluate project proposals for competitive passenger ferry grants based on the criteria described in this notice. Criteria are weighted equally.

a. Demonstration of Need

Applications will be evaluated based on the quality and extent to which they demonstrate how the proposed project will address an unmet need for capital investment in passenger ferry vehicles, equipment, or facilities. FTA also will evaluate the project's impact on service delivery and whether the project represents a one-time or periodic need that cannot reasonably be funded from FTA formula program allocations or State and/or local resources. In evaluating applications, FTA will consider, among other factors, certain project-specific criteria as outlined below:

i. For vessel replacement or rehabilitation projects (including low or zero emission ferries):

• The age of the asset to be replaced or rehabilitated by the proposed project, relative to its useful life.

• Condition and performance of the asset to be replaced by the proposed project, as ascertained through inspections or otherwise, if available.

ii. For facility infrastructure improvements or related-equipment acquisitions:

• The age of the facility or equipment to be rehabilitated or replaced, relative to its useful life.

• The degree to which the proposed project will enable the agency to improve the maintenance and condition of the agency's fleet and/or other related ferry assets.

iii. For vessel or facility-related expansion or new service requests:

• The degree to which the proposed project addresses a current capacity constraint that is limiting the ability of the agency to provide reliable service, meet ridership demands, or maintain vessels and related equipment.

• The degree the proposed new service is supported by ridership demand.

b. Demonstration of Benefits

Applications will be evaluated based on how the ferry project will improve the (1) safety of existing ferry systems, (2) the state of good repair of the existing system, and/or (3) provide additional transportation options to existing or potential riders within the service area. FTA also will consider potential benefits such as increased reliability of service, improved operations or maintenance capabilities, or expanded mobility options, intermodal connections, and improved community benefits related to the economy or the environment.

For low or no emission projects, applicants should demonstrate how the proposed ferries or infrastructure will reduce the emission of particulates that create local air pollution, which leads to local environmental health concerns, smog, and unhealthy ozone concentrations. Applicants should also demonstrate how the proposed ferries or infrastructure will reduce emissions of greenhouse gases from transit vehicle operations.

Applicants should address how the ferry service to be supported by the proposed project is integrated with other regional modes of transportation, including but not limited to: Rail, bus, intercity bus, and private transportation providers. Supporting documentation should include data that demonstrates the number of trips (passengers and vehicles), the number of walk-on passengers, and the frequency of transfers to other modes if applicable.

c. Planning and Local/Regional Prioritization

Applicants must demonstrate how the proposed project is consistent with local and regional planning documents and identified priorities. This will involve assessing whether the project is consistent with the transit priorities identified in the long-range transportation plan and the State and Metropolitan Transportation Improvement Program (STIP/TIP). Applicants should note if the project could not be included in the financially constrained STIP or TIP due to lack of funding, and if selected that the project can be added to the federally approved STIP before grant award.

FTA encourages applicants to demonstrate local support by including letters of support from State Departments of Transportation, local transit agencies, local government officials and public agencies, local non-profit or private sector organizations, and other relevant stakeholders. In an area with both ferry and other public transit operators, FTA will evaluate whether project proposals demonstrate coordination with and support of other related projects within the applicant's Metropolitan Planning Organization (MPO) or the geographic region within which the proposed project will operate.

d. Local Financial Commitment

Applicants must identify the source of the local cost share and describe whether such funds are currently available for the project or will need to be secured if the project is selected for funding. FTA will consider the availability of the local cost share as evidence of local financial commitment to the project. Additional consideration will be given to those projects for which local funds have already been made available or reserved. Applicants should submit evidence of the availability of funds for the project, by including, for example, a board resolution, letter of support from the State, or other documentation of the source of local funds such as a budget document highlighting the line item or section committing funds to the proposed project.

An applicant may provide documentation of previous local investments in the project, which cannot be used to satisfy local matching requirements, as evidence of local financial commitment.

Applicants that request a Federal share greater than 80 percent must clearly explain why the project is eligible for the proposed Federal share.

e. Project Implementation Strategy

Projects will be evaluated based on the extent to which the project is ready to implement within a reasonable period of time and whether the applicant's proposed implementation plans are reasonable and complete.

In assessing whether the project is ready to implement within a reasonable period of time, FTA will consider whether the project qualifies for a Categorical Exclusion, or whether the required environmental work has been initiated or completed for projects that require an Environmental Assessment or Environmental Impact Statement under the National Environmental Policy Act of 1969. As such, applicants should submit information describing the project's anticipated path and timeline through the environmental review process. The proposal must also state whether grant funds can be obligated within 12 months from time of award, if selected, and the timeframe under which the Metropolitan TIP and/or STIP can be amended to include the proposed project. Additional consideration will be given to projects for which grant funds can be obligated within 12 months from time of award.

In assessing whether the proposed implementation plans are reasonable and complete, FTA will review the proposed project implementation plan, including all necessary project milestones and the overall project timeline. For projects that will require formal coordination, approvals, or permits from other agencies or project partners, the applicant must demonstrate coordination with these organizations and their support for the project, such as through letters of support.

f. Technical, Legal, and Financial Capacity

Applicants must demonstrate that they have the technical, legal, and financial capacity to undertake the project. FTA will review relevant oversight assessments and records to determine whether there are any outstanding legal, technical, or financial issues with the applicant that would affect the outcome of the proposed project.

Applicants with outstanding legal, technical, or financial compliance issues from an FTA compliance review or FTA grant-related Single Audit finding must explain how corrective actions taken will mitigate negative impacts on the project.

2. Review and Selection Process

FTA technical evaluation committees will evaluate proposals using the project evaluation criteria. Members of the technical evaluation committees and other FTA staff may request additional information from applicants, if necessary. After consideration of the findings of the technical evaluation committees, FTA will determine the final selection of projects for program funding. In determining the allocation of program funds, FTA may consider geographic diversity, diversity in the size of the transit systems receiving funding, and the applicant's receipt of other competitive awards. FTA will also consider whether the project will include low or zero-emission ferries or ferries using electric battery or fuel cell components and the infrastructure to support such ferries. FTA may consider capping the amount a single applicant may receive. After applying the above criteria, in support of the President's January 20, 2021, Executive Order 13990, “Protecting Public Health and the Environment and Restoring Science to Tackle the Climate Crisis,” the FTA Administrator will give priority consideration to applications that are expected to create significant community benefits relating to the environment, including those projects that incorporate low or no emission technology. FTA seeks to select projects that have considered climate change and environmental justice in the planning stage and were designed with specific elements to address climate change impacts. Projects should directly support Climate Action Plans or apply environmental justice screening tools in the planning stage. As stated in this NOFO, of the $38 million, $4 million is available only for low or zero-emission ferries or ferries using electric battery or fuel cell components and the infrastructure to support such ferries. Projects should include components that reduce emissions, promote energy efficiency, incorporate electrification or zero emission vehicle infrastructure, increase resiliency, and recycle or redevelop existing infrastructure.

Furthermore, in support of Executive Order 13985, “Advancing Racial Equity and Support for Underserved Communities Through the Federal Government,” FTA may consider projects that advance racial equity and overcomes barriers to opportunity for underserved communities. FTA seeks to select projects that have considered racial equity in the planning stage and were designed with specific elements to address racial equity and barriers to opportunity. The applicant should indicate which (if any) planning and policies related to racial equity and barriers to opportunity they are implementing or have implemented, along with the specific project investment details necessary for FTA to evaluate if the investments are being made either to proactively advance racial equity and remove barriers to opportunity, or to redress prior inequities and barriers to opportunity. All project investment costs for the project that are related to racial equity and barriers to opportunity should be summarized.

Prior to making an award, FTA is required to review and consider any information about the applicant that is in the FAPIIS accessible through SAM. An applicant may review and comment on information about itself that a Federal awarding agency previously entered. FTA may consider any comments by the applicant, in addition to the other information in FAPIIS, in making a judgment about the applicant's integrity, business ethics, and record of performance under Federal awards when completing the review of risk posed by applicants as described in the Office of Management and Budget's Uniform Requirements for Federal Awards (2 CFR 200.206).

F. Federal Award Administration Information

1. Federal Award Notices

Final project selections will be posted on the FTA website. Only proposals from eligible recipients for eligible activities will be considered for funding. There is no minimum or maximum grant award amount; however, FTA intends to fund as many meritorious projects as possible. Due to funding limitations, projects that are selected for funding may receive less than the amount originally requested. In those cases, applicants must be able to demonstrate that the proposed projects are still viable and can be completed with the amount awarded.

Recipients should contact their FTA Regional Offices for additional information regarding allocations for projects under the Ferry Program.

2. Administrative and National Policy Requirements

i. Pre-Award Authority

At the time the project selections are announced, FTA will extend pre-award authority for the selected projects. There is no blanket pre-award authority for these projects before announcement and pre-award authority cannot be used prior to FTA issuance of pre-award authority. FTA does not provide pre-award authority for competitive funds until projects are selected and even then, there are Federal requirements that must be met before costs are incurred. For more information about FTA's policy on pre-award authority, please see the most recent Apportionment Notice at https://www.transit.dot.gov.

ii. Grant Requirements

If selected, awardees will apply for a grant through FTA's Transit Award Management System (TrAMS). All Ferry Program recipients are subject to the grant requirements of the Urbanized Area Formula Grant program (49 U.S.C. 5307), FTA's Master Agreement for financial assistance awards, the annual Certifications and Assurances required of applicants, and FTA Circular “Urbanized Area Formula Program: Program Guidance and Application Instructions” (FTA.C.9030.1E). All recipients must also follow the Award Management Requirements (FTA.C.5010.1) and the labor protections required by Federal public transportation law (49 U.S.C. 5333(b)). All these documents are available on FTA's website. Technical assistance regarding these requirements is available from each FTA regional office.

iii. Buy America

FTA requires that all capital procurements meet FTA's Buy America requirements (49 U.S.C. 5323(j)) which require all iron, steel, or manufactured products be produced in the United States. Any proposal that will require a waiver must identify the items for which a waiver will be sought in the application. Applicants should not proceed with the expectation that waivers will be granted.

iv. Disadvantaged Business Enterprise

Projects that include ferry acquisitions are subject to the Disadvantaged Business Enterprise (DBE) program regulations (49 CFR part 26) and ferry manufacturers must comply with that part to be eligible to bid on an FTA-assisted ferry procurement. Grant recipients must verify each Transit Vehicle Manufacturer's (TVM) compliance before accepting its bid. A list of certified TVMs is posted on FTA's web page at https://www.transit.dot.gov/TVM. Recipients should contact FTA before accepting bids from entities not listed on this web-posting. In lieu of using a certified TVM, recipients may also establish project specific DBE goals for ferry purchases. The FTA will provide additional guidance as grants are awarded. For more information on DBE requirements, please contact Monica McCallum, Director of Regional Operations, Office of Civil Rights, 206-220-7519, email: Monica.McCallum@dot.gov.

v. Planning

FTA encourages applicants to notify the appropriate State Departments of Transportation and MPOs in areas likely to be served by the project funds made available under these initiatives and programs. Selected projects must be incorporated into the long-range plans and transportation improvement programs of States and metropolitan areas before they are eligible for FTA funding. As described under the evaluation criteria, FTA may consider whether a project is consistent with or already included in these plans when evaluating a project.

vi. Standard Assurances

The applicant assures that it will comply with all applicable Federal statutes, regulations, executive orders, directives, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

3. Reporting

Post-award reporting requirements include the electronic submission of Federal Financial Reports and Milestone Progress Reports. Applicant should include goals, targets, and indicators referenced in their application to the project in the Executive Summary of the TrAMS application. Recipients of funds made available through this NOFO are also required to regularly submit data to the National Transit Database. National Transit Database reports include total sources of revenue and complete expenditure reports for all public transportation operations, not just those funded by this project. Applicants partnering with a private operator should ensure that the private operator will meet all of the comprehensive reporting requirements of the National Transit Database.

As part of completing the annual certifications and assurances required of FTA grant recipients, a successful applicant must report on the suspension or debarment status of itself and its principals. If the award recipient's active grants, cooperative agreements, and procurement contracts from all Federal awarding agencies exceeds $10,000,000 for any period of time during the period of performance of an award made pursuant to this Notice, the recipient must comply with the Recipient Integrity and Performance Matters reporting requirements described in Appendix XII to 2 CFR part 200.

G. Federal Awarding Agency Contacts

For further information concerning this notice, please contact the Ferry Program manager, Vanessa Williams, by phone at 202-366-4818, or by email at vanessa.williams@dot.gov. A TDD is available for individuals who are deaf or hard of hearing at 800-877-8339. In addition, FTA will post answers to questions and requests for clarifications on FTA's website at: https://www.transit.dot.gov/funding/grants/passenger-ferry-grant-program-section-5307. To ensure receipt of accurate information about eligibility or the program, the applicant is encouraged to contact FTA directly, rather than through intermediaries or third parties.

H. Other Information

This program is not subject to Executive Order 12372, “Intergovernmental Review of Federal Programs.” FTA will consider applications for funding only from eligible recipients for eligible projects listed in Section C. Complete applications must be submitted through GRANTS.GOV by 11:59 p.m. EST on October 5, 2021. For issues with GRANTS.GOV, please contact GRANTS.GOV by phone at 1-800-518-4726 or by email at support@grants.gov. Contact information for FTA's regional offices can be found on FTA's website at http://www.transit.dot.gov/.

Nuria I. Fernandez,
Administrator.

[FR Doc. 2021-16790 Filed 8-5-21; 8:45 am]

BILLING CODE P